DEPARTMENT OF DEFENSE

Office of the Secretary

[Transmittal Nos. 13-09]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-09 with attached transmittal, and policy justification.

Dated: May 1, 2013.
Aaron Siegel,
Alternate OSD Federal Register Liaison Officer, Department of Defense.

BILLING CODE 5001-06-P

Transmittal No. 13-09

Notice of Proposed Issuance of Letter of Offer Pursuant to Section 36(b)(1) of the Arms Export Control Act, as amended

(i) Prospective Purchaser: United Kingdom

(ii) Total Estimated Value:

* as defined in Section 47(6) of the Arms Export Control Act.

Major Defense Equipment * | $0 million
Other | $170 million
TOTAL | $170 million

(iii) Description and Quantity or Quantities of Articles or Services under Consideration for Purchase: follow-on support for the Tomahawk Weapon System (TWS) including missile modifications, maintenance, spare and repair parts, system and test equipment, engineering support, communications equipment, technical assistance, personnel training/equipment, and other related elements of logistics support.

(iv) Military Department: Navy (FAY).

(v) Prior Related Cases, if any:

FMS Case AGS-$154M-16Oct95

FMS Case AHA-$32M-26Aug99

FMS Case AHE-$36M-14Dec01

FMS Case GWY-$6M-20Jan00

FMS Case GYU-$33M-21Jan02

FMS Case LIS-$49M-18Jan04

FMS Case GXQ-$122M-27Nov00

FMS Case AHJ-$118M-26Mar04

FMS Case GEK-$122M-20Feb08.

(vi) Sales Commission, Fee, etc., Paid, Offered, or Agreed to be Paid: None.

(vii) Sensitivity of Technology Contained in the Defense Article or Defense Services Proposed to be Sold: None.

(viii) Date Report Delivered to Congress: 16 April 2013.

POLICY JUSTIFICATION

United Kingdom—Follow-On Support for Tomahawk Weapon System (TWS)

The United Kingdom (UK) has requested a possible sale of follow-on support for the Tomahawk Weapon System (TWS) to include missile modifications, maintenance, spare and repair parts, system and test equipment, engineering support, communications equipment, technical assistance, personnel training/equipment, and other related elements of logistics support. The estimated cost is $170 million.

The United Kingdom is a major political and economic power and a key democratic partner of the U.S. in ensuring peace and stability around the world.

The proposed sale of follow-on support will allow the United Kingdom to continue life cycle support of its TWS and maintain operational effectiveness. The United Kingdom requests support for this capability to provide for the safety of its deployed troops, regional security, and interoperability with the United States. The United Kingdom will have no difficulty absorbing this follow-on support into its armed forces.

The proposed sale of this follow-on support and equipment will not alter the basic military balance in the region.

The principal contractors will be Raytheon Missile Systems Company in Tucson, Arizona; Lockheed Martin in Manassas, Virginia, Valley Forge, Pennsylvania, and Marlton, New Jersey; The Boeing Company in St. Louis, Missouri; BAE North America in San Diego, California; COMGLOBAL in San Jose, California; and SAIC in Springfield, Virginia and Patuxent River, Maryland. There are no known offset agreements proposed in connection with this potential sale.

Implementation of this proposed sale will require the assignment of one (1) U.S. Government and two (2) contractor representatives to the United Kingdom for the duration of this case.

There will be no adverse impact on U.S. defense readiness as a result of this proposed sale.

[FR Doc. 2013-10631 Filed 5-3-13; 8:45 am]

BILLING CODE 5001-06-C